FEDERAL COMMUNICATIONS COMMISSION

[WC Docket No. 06-122; DA 13-2090]

Proposed Changes to FCC Form 499-A, FCC Form 499-Q, and Accompanying Instructions.

AGENCY: Federal Communications Commission.

ACTION: Notice; correction.

SUMMARY: The Federal Communications Commission published a document in the Federal Register on November 5, 2013 concerning a request for comment on proposed revisions to (1) the annual Telecommunications Reporting Worksheet, FCC Form 499-A (Form 499-A) and accompanying instructions (Form 499-A Instructions) to be used in 2014 to report 2013 revenues, and (2) the quarterly Telecommunications Reporting Worksheet, FCC Form 499-Q (Form 499-Q) and accompanying instructions (Form 499-Q Instructions) to be used in 2014 to report projected collected revenues on a quarterly basis. The document had an error in the Supplementary section of the notice.

FOR FURTHER INFORMATION CONTACT: For additional information, contact Charles Eberle, Wireline Competition Bureau at (202) 418-7400 or via the Internet at Charles.Eberle@fcc.gov.

Correction

In the Federal Register on November 5, 2013, in FR Doc. 2013-26482, on page 66358 make the following corrections:

1. On page 66358, in the Supplementary section, in the 1st column, under paragraph C of II Discussion, “pages 10-11” is corrected to read “page 10.”

2. On page 66358, in the Supplementary section, in the 1st column, under paragraph D of II Discussion, “page 12” is corrected to read “page 11.”

3. On page 66358, in the Supplementary section, in the 1st column, under paragraph E of II Discussion, “page 12” is corrected to read “page 11.”

4. On page 66358, in the Supplementary section, in the 2nd column, under paragraph F of II Discussion, “page 15” is corrected to read “page 14.”

5. On page 66358, in the Supplementary section, in the 2nd column, under paragraph G of II Discussion, “page 19” is corrected to read “page 18.”

6. On page 66358, in the Supplementary section, in the 2nd column, under paragraph H of II Discussion, “pages 23-27” is corrected to read “pages 22-26.”

7. On page 66358, in the Supplementary section, in the 2nd column, under paragraph I of II Discussion, “page 28” is corrected to read “page 27.”

Federal Communications Commission.
Kimberly Scardino,
Division Chief, Telecommunications Access Policy Division Wireline Competition Bureau.

[FR Doc. 2013-27725 Filed 11-18-13; 8:45 am]

BILLING CODE 6712-01-P